Presidential Determination No. 2022-08 of December 21, 2021

Presidential Determination Pursuant to Section 303 of the Defense Production Act of 1950, as Amended

Memorandum for the Secretary of Defense

By the authority vested in me as President by the Constitution and the laws of the United States of America, including section 303 of the Defense Production Act of 1950, as amended (the “Act”) (50 U.S.C. 4533), I hereby determine, pursuant to section 303(a)(5) of the Act, that:

(1) Radiation-Hardened and Strategic Radiation-Hardened Microelectronics, their components, and the manufacturing systems to produce such systems and components are industrial resources, materials, or critical technology items essential to the national defense;

(2) without Presidential action under section 303 of the Act, United States industry cannot reasonably be expected to provide the capability for the needed industrial resource, material, or critical technology item in a timely manner; and

(3) purchases, purchase commitments, or other action pursuant to section 303 of the Act are the most cost-effective, expedient, and practical alternative method for meeting the need.

Pursuant to section 303(a)(7)(B) of the Act, I find that action to expand the domestic production capability for Radiation-Hardened and Strategic Radiation-Hardened Microelectronics is necessary to avert an industrial resource or critical technology item shortfall that would severely impair national defense capability. Therefore, I waive the requirements of section 303(a)(l)-(a)(6) of the Act for the purpose of expanding the domestic production capability for these supply chains.

You are authorized and directed to publish this determination in the Federal Register.

THE WHITE HOUSE,

Washington, December 21, 2021

[FR Doc. 2021-28285

Filed 12-23-21; 11:15 am]

Billing code 5001-06-P